DEPARTMENT OF COMMERCE

National Oceanic and Atmospheric Administration

[I.D. 111605F]

North Pacific Fishery Management Council; Public Meeting

AGENCY: National Marine Fisheries Service (NMFS), National Oceanic and Atmospheric Administration (NOAA), Commerce.

ACTION: Notice of public meetings of the North Pacific Fishery Management Council's (Council) Guideline Harvest Level (GHL) Committee.

SUMMARY: The Council's GHL Committee will meet December 8, 2005 at the Hilton Hotel.

DATES: The meeting will be held on December 8, 2005, 6 p.m., Dillingham/Katmai.

ADDRESSES: The meeting will be held at the Anchorage Hilton Hotel, 500 West 3rd Avenue, Anchorage, AK 99501.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: This will be an organizational meeting for the Committee, which would include a discussion of: charge of the Committee, future meeting dates/locations and information needs.

Although non-emergency issues not contained in this agenda may come before the Council for discussion, these issues may not be the subject of formal action during this meeting. Action will be restricted to those issues specifically listed in this notice and any issues arising after publication of this notice that require emergency action under section 305(c) of the Magnuson-Stevens Act, provided the public has been notified of the Council's intent to take final actions to address the emergency.

Special Accommodations

These meetings are physically accessible to people with disabilities. Requests for sign language interpretation or other auxiliary aids should be directed to Gail Bendixen at 907-271-2809 at least 7 working days prior to the meeting date.

Dated: November 17, 2005.
Emily Menashes,
Acting Director, Office of Sustainable Fisheries, National Marine Fisheries Service.

[FR Doc. E5-6440 Filed 11-21-05; 8:45 am]

BILLING CODE 3510-22-S